DEPARTMENT OF COMMERCE

International Trade Administration

[A-583-853]

Certain Crystalline Silicon Photovoltaic Products, Whether or Not Assembled into Modules, From Taiwan: Final Results of Changed Circumstances Reviews, and Revocation of the Antidumping and Countervailing Duty Orders, in Part

AGENCY: Enforcement and Compliance, International Trade Administration, Department of Commerce.

SUMMARY: The U.S. Department of Commerce (Commerce) is issuing the final results of changed circumstances review (CCR) of the antidumping duty (AD) order on crystalline silicon photovoltaic products, whether or not assembled into modules (solar products), from Taiwan to revoke the order, in part, with respect to certain crystalline silicon photovoltaic (CSPV) cells.

DATES: Applicable July 24, 2025.

FOR FURTHER INFORMATION CONTACT: Tyler O'Daniel, Office of Policy, Enforcement and Compliance, International Trade Administration, U.S. Department of Commerce, 1401 Constitution Avenue NW, Washington, DC 20230; telephone: (202) 482-6030.

SUPPLEMENTARY INFORMATION:

Background

On February 18, 2015, Commerce published in the Federal Register the antidumping duty order on solar products from Taiwan.¹ On August 28, 2024, Lutron Electronics Co., Inc. (Lutron), a domestic producer, importer and exporter of subject merchandise, requested that Commerce conduct a changed circumstances review (CCR) to find that it is appropriate to revoke the Order, in part, with respect to certain small, low-wattage, off-grid (CSPV) cells pursuant to section 751(b)(1) of the Tariff Act of 1930, as amended (the Act), and 19 CFR 351.216(b).² On October 21, 2024, Commerce published the notice of initiation of the requested CCR.³ In the Initiation Notice, Commerce invited interested parties to provide comments and/or factual information regarding the CCR, including comments on industry support and the proposed partial revocation language.⁴ We received no comments or factual information.

¹ See Certain Crystalline Silicon Photovoltaic Products from Taiwan: Antidumping Duty Order, 80 FR 8596 (February 18, 2015) (Order).

² See Lutron's Letter, “Lutron Electronics Co., Inc.'s Request for Changed Circumstances Reviews and Request to Combine Initiation and Preliminary Results,” dated August 28, 2024 (CCR Request).

³ See Crystalline Silicon Photovoltaic Products, Whether or Not Assembled into Modules, from the People's Republic of Taiwan: Notice of Initiation of Changed Circumstances Review, and Consideration of Revocation of the Antidumping Order in Part, 89 FR 84118 (October 21, 2024) (Initiation Notice).

⁴ Id., 89 FR at 84118.

On April 23, 2025, Commerce preliminarily found that producers accounting for substantially all of the domestic production of the products to which the Order pertains lack interest in the relief provided by the Order with respect to CSPV cells, and announced its intention to revoke, in part, the Order with respect to these products.⁵ Commerce provided interested parties with the opportunity to comment and request a public hearing regarding the Preliminary Results. Commerce did not receive any comments or a request for a hearing from interested parties. As a result, the Preliminary Results are hereby adopted as the final results of this CCR and no decision memoranda accompany this notice.

⁵ See Crystalline Silicon Photovoltaic Cells, Whether or Not Assembled Into Modules, From Taiwan: Preliminary Results of Changed Circumstances Reviews, and Intent To Revoke the Antidumping and Countervailing Duty Orders, in Part, 90 FR 17048 (April 23, 2025) (Preliminary Results).

Final Results of Changed Circumstances Review and Revocation of the Order, in Part

In light of Lutron's request, and domestic interested parties' lack of interest in maintaining the Order with respect to the products under consideration, Commerce continues to find, pursuant to sections 751(d)(1) and 782(h)(2) of the Act and 19 CFR 351.222(g), that changed circumstances exist that warrant revocation of the Order, in part. No interested party opposed this partial revocation. Moreover, no parties provided other information or evidence that calls into question the partial revocation described in the Preliminary Results. Specifically, because producers accounting for substantially all the production of the domestic like product to which the Order pertains have not expressed interest in maintaining the relief provided by the Order with respect to CSPV cells, as described below, Commerce is revoking the Order, in part, with respect to CSPV cells with the following physical characteristics:

Also excluded from the scope of this Order are off-grid CSPV panels in rigid form, with or without a glass cover, permanently attached to an aluminum extrusion that is an integral component of an automation device that controls natural light, whether or not assembled into a fully completed automation device that controls natural light, with the following characteristics:

1. A total power output of 20 watts or less per panel;

2. A maximum surface area of 1,000 cm2 per panel;

3. Does not include a built-in inverter for powering third party devices.⁶

⁶ See CCR Request at Exhibit 1.

The scope description below includes this new exclusion.

Scope of the Order

The merchandise covered by the Order is crystalline silicon photovoltaic cells, and modules, laminates, and/or panels, consisting of crystalline silicon photovoltaic cells, whether or not partially or fully assembled into other products, including building integrated materials.

Subject merchandise includes crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Modules, laminates, and panels produced in a third-country from cells produced in Taiwan are covered by the Order. However, modules, laminates, and panels produced in Taiwan from cells produced in a third-country are not covered by the Order.

Excluded from the scope of the Order are thin film photovoltaic products produced from amorphous silicon (a-Si), cadmium telluride (CdTe), or copper indium gallium selenide (CIGS).

Also excluded from the scope of the Order are crystalline silicon photovoltaic cells, not exceeding 10,000mm2 in surface area, that are permanently integrated into a consumer good whose function is other than power generation and that consumes the electricity generated by the integrated crystalline silicon photovoltaic cells. Where more than one cell is permanently integrated into a consumer good, the surface area for purposes of this exclusion shall be the total combined surface area of all cells that are integrated into the consumer good.

Further, also excluded from the scope of the Order are any products covered by the existing antidumping and countervailing duty orders on crystalline silicon photovoltaic cells, whether or not assembled into modules, from the People's Republic of China (China).⁷

⁷ See Crystalline Silicon Photovoltaic Cells, Whether or Not Assembled Into Modules, from the People's Republic of China: Amended Final Determination of Sales at Less Than Fair Value, and Antidumping Duty Order, 77 FR 73018 (December 7, 2012); see also Crystalline Silicon Photovoltaic Cells, Whether or Not Assembled Into Modules, from the People's Republic of China: Countervailing Duty Order, 77 FR 73017 (December 7, 2012).

Also excluded from the scope of the Order are modules, laminates, and panels produced in China from crystalline silicon photovoltaic cells produced in Taiwan that are covered by an existing proceeding on such modules, laminates, and panels from China.

Additionally, excluded from the scope of the Order are solar panels that are: (1) less than 300,000mm2 in surface area; (2) less than 27.1 watts in power; (3) coated across their entire surface with a polyurethane doming resin; and (4) joined to a battery charging and maintaining unit (which is an acrylonitrile butadiene styrene (ABS) box that incorporates a light emitting diode (LED) by coated wires that include a connector to permit the incorporation of an extension cable. The battery charging and maintaining unit utilizes high-frequency triangular pulse waveforms designed to maintain and extend the life of batteries through the reduction of lead sulfate crystals. The above-described battery charging and maintaining unit is currently available under the registered trademark “SolarPulse.”

Also excluded from the scope of this Order are off-grid CSPV panels in rigid form, with or without a glass cover, permanently attached to an aluminum extrusion that is an integral component of an automation device that controls natural light, whether or not assembled into a fully completed automation device that controls natural light, with the following characteristics: (1) A total power output of 20 watts or less per panel; (2) A maximum surface area of 1,000 cm2 per panel; (3) Does not include a built-in inverter for powering third party devices.

Merchandise covered by the Order is currently classified in the Harmonized Tariff System of the United States (HTSUS) under subheadings 8501.61.0000, 8507.20.8030, 8507.20.8040, 8507.20.8060, 8507.20.8090, 8541.40.6020, 8541.40.6030, and 8501.31.8000. These HTSUS subheadings are provided for convenience and customs purposes; the written description of the scope of the Order is dispositive.⁸

⁸ See Order.

Application of the Final Results of the CCR

Lutron requested that Commerce apply the final results of this review to “all unliquidated entries of the merchandise covered by the revocation that are not covered by the final results of an administrative review or automatic liquidation instruction.” ⁹ Section 751(d)(3) of the Act provides that Commerce determines the date of application of the revocation of an order.¹⁰ In the Preliminary Results, we stated our intent that “the partial revocation will be retroactively applied to unliquidated entries of merchandise subject to the CCR that were entered or withdrawn from warehouse, for consumption, on or after the day following the last day of the period covered by the most recently completed administrative reviews of the Order, and which are not covered by automatic liquidation,” and invited comments.¹¹ As explained above, we received no comments opposing the intended retroactive application of the partial revocation. Therefore, Commerce is applying the partial revocation to unliquidated entries of merchandise subject to the CCRs that were entered, or withdrawn from warehouse, for consumption, on or after February 1, 2021.

⁹ See CCR Request at 13.

¹⁰ See section 751(d)(3) of the Act (stating that a “determination under this section to revoke an order or finding or terminate a suspended investigation shall apply with respect to unliquidated entries of the subject merchandise which are entered, or withdrawn from warehouse, for consumption on or after the date determined by the administering authority”).

¹¹ See Preliminary Results.

Instructions to U.S. Customs and Border Protection (CBP)

Because we determine that there are changed circumstances that warrant the revocation of the Order, in part, we will instruct CBP to liquidate without regard to antidumping and countervailing duties, and to refund any estimated antidumping and countervailing duties deposited on all unliquidated entries of the merchandise entered, or withdrawn from warehouse, for consumption on or after February 1, 2021, that are covered by this partial revocation of the Order.

Commerce intends to issue instructions to CBP no earlier than 35 days after the date of publication of the final result of this CCR in the Federal Register. If a timely summons is filed at the U.S. Court of International Trade, the instructions will direct CBP not to liquidate relevant entries until the time for parties to file a request for a statutory injunction has expired (i.e., within 90 days of publication).

Administrative Protective Order

This notice serves as a final reminder to parties subject to an administrative protective order (APO) of their responsibility concerning the disposition of proprietary information disclosed under an APO in accordance with 19 CFR 351.305(a)(3). Timely written notification of the return/destruction of APO materials or conversion to a judicial protective order is hereby requested. Failure to comply with the regulations and terms of an APO is a sanctionable violation.

Notification to Interested Parties

We are issuing and publishing the final results of the CCR in accordance with sections 751(b) and 777(i) of the Act, and 19 CFR 351.216, 19 CFR 351.221(c)(3), and 19 CFR 351.222(g).

Dated: July 18, 2025.
Christopher Abbott,
Deputy Assistant Secretary for Policy and Negotiations, performing the non-exclusive functions and duties of the Assistant Secretary for Enforcement and Compliance.

[FR Doc. 2025-13955 Filed 7-23-25; 8:45 am]

BILLING CODE 3510-DS-P